DEPARTMENT OF COMMERCE

Foreign-Trade Zones Board

[Docket 66-2008]

Foreign-Trade Zone 100—Dayton, Ohio; Application for Subzone Status; Thor Industries, Inc. (Recreational Vehicles Manufacturing); Jackson Center, OH

An application has been submitted to the Foreign-Trade Zones Board (the Board) by the Greater Dayton Foreign-Trade Zone, Inc., grantee of Foreign-Trade Zone (FTZ) 100, requesting special-purpose subzone status for the recreational vehicle manufacturing and distribution facilities of Thor Industries, Inc. (Thor) and its Airstream, Inc. subsidiary located in Jackson Center, Ohio. The application was submitted pursuant to the provisions of the Foreign-Trade Zones Act, as amended (19 U.S.C. 81a-81u), and the regulations of the Board (15 CFR Part 400). It was formally filed on December 4, 2008.

The Thor facility (89 acres, 12 buildings, 340 employees) is located at 419 West Pike Street in Jackson Center, Ohio, and is used for the manufacture, testing, warehousing and distribution of various types of recreational vehicles, including motor homes, travel trailers and fifth wheels (HTSUS numbers 8703.23, 8703.24, 8703.31, 8703.32, 8703.33 and 8716.10). At full capacity the Thor facility can produce up to 115 motor homes and 2,250 travel trailers and fifth wheels annually. Imported components and raw materials account for approximately 57 percent of the finished products' value. Parts and components that may be imported into the proposed subzone for manufacturing include: Glues and adhesives; plastic tubes, pipes and hoses; plastic floor coverings; self-adhesive plastic sheets, film, foil, tape and strip; plastic baths, shower baths, sinks and washbasins; plastic lavatory seats and covers; plastic flushing cisterns; plastic fittings for furniture; other plastic articles; compounded rubber plates, sheet or strip; vulcanized rubber sheets, strip and rods; vulcanized rubber tubes, pipes and hoses with or without fittings; pneumatic rubber tires; vulcanized rubber floor coverings; vulcanized rubber gaskets, washers, seals and other articles; ceramic sinks, washbasins, baths, bowls, bidets, flush-tanks and urinals; safety glass; windshields; rear-view mirrors; glass-fiber sheets, webs, mattresses and mats; platinum wire cloth or grill catalysts; iron or steel sleeves, butt-weld fittings, elbows, flanges or other articles; self-tapping screws; iron or steel screws and bolts with or without washers; iron or steel hooks, rivets, cotters, cotter pins and washers; spring washers; leaf springs and leaves; helical springs; hair springs; copper, iron or steel nails, tacks and drawing pins; copper pot scourers, polishing pads and parts; aluminum tubes, pipes and pipe fittings; aluminum screws, screw hooks, nails, tacks, rivets, cotters, cotter pins and washers; base-metal locks; base-metal mountings, brackets, fittings and castors; iron or steel flexible tubing; fuel, lubricating and cooling pumps for internal combustion engines; air and vacuum pumps and their parts; air conditioning machines and parts; check valves; safety and relief valves; thermostatically-controlled valves and their parts; electric motors and generators; static converters; lead-acid storage batteries; starter motors and generators; other generators; lighting and visual-signaling equipment; sound-signaling equipment; windshield wipers, defrosters, demisters and their parts; microwave ovens; water heaters, ovens, stoves and ranges; electric sound amplifier sets and their parts; sound turntables; sound reproducing apparatus; television receivers; antennas and antenna reflectors; reception apparatus parts; burglar and fire alarms; circuit breakers; relays; optical fiber cables; electrical switches; lamp holders; electrical consoles; sealed-beam electrical lamps; halogen lamps; electrical discharge lamps and their parts; insulated wire cable with connectors; diesel-powered motor vehicle chassis not exceeding 5 metric tons; diesel-powered motor vehicle chassis exceeding 5 metric tons up to 20 metric tons; diesel-powered motor vehicle chassis exceeding 20 metric tons; spark-ignition internal combustion engine-powered motor vehicle chassis not exceeding 5 metric tons; spark-ignition internal combustion engine-powered motor vehicles exceeding 5 metric tons; road wheels and parts; trailers, semi-trailers and their parts; optical appliances and instruments; hydrometers, thermometers, pyrometers, barometers, hygrometers, psychrometers and their parts; gas or smoke analysis apparatus; speedometers, tachometers and stroboscopes; engine-testing equipment; voltage regulators and their parts; rubber or plastic mattresses; and, mattress supports. The duty rates on the imported components range from duty-free to 25 percent.

This application requests authority for Thor to conduct the manufacturing activity under FTZ procedures, which could exempt the company from customs duty payments on the imported components used in export production. Up to 5 percent of production could be exported. On domestic sales, the company could defer duty payment and choose the lower duty rate (duty-free to 5.7 percent) that applies to the finished products for the imported components used in manufacturing. Thor may also realize savings related to direct delivery and weekly customs entry procedures. The company would also realize savings on the elimination of duties on materials that become scrap/waste during manufacturing. The application indicates that the FTZ-related savings would improve the plant's international cost competitiveness.

In accordance with the Board's regulations, Christopher Kemp of the FTZ staff is designated examiner to investigate the application and report to the Board.

Public comment is invited from interested parties. Submissions (original and 3 copies) shall be addressed to the Board's Executive Secretary at the address listed below. The closing period for their receipt is February 17, 2009. Rebuttal comments in response to material submitted during the foregoing period may be submitted during the subsequent 15-day period (to March 2, 2009.

A copy of the application and accompanying exhibits will be available at each of the following addresses: Greater Dayton Foreign-Trade Zone, Inc., 300 Terminal Drive, Dayton, OH 45377; and, Office of the Executive Secretary, Foreign-Trade Zones Board, Room 2111, U.S. Department of Commerce, 1401 Constitution Avenue, NW., Washington, DC 20230. For further information contact Christopher Kemp at christopher_kemp@ita.doc.gov or (202) 482-0862.

Dated: December 4, 2008.
Andrew McGilvray,
Executive Secretary.

[FR Doc. E8-29983 Filed 12-16-08; 8:45 am]

BILLING CODE 3510-DS-P